DEPARTMENT OF HEALTH AND HUMAN SERVICES

Health Resources and Services Administration

Delta States Rural Development Network Grant Program

AGENCY: Health Resources and Services Administration, HHS.

ACTION: Notice of Class Deviation from Competition Requirements for Delta States Rural Development Network Grant Program.

SUMMARY: The Office of Rural Health Policy (ORHP) is announcing supplemental awards to the current Delta States Rural Development Network Grant Program (Delta States) grantees. The supplemental funds will allow current Delta grantees to implement outreach and enrollment activities to the rural uninsured in the Mississippi Delta for the next Affordable Care Act's (ACA) Health Insurance Marketplace open enrollment period (November 15, 2014—February 15, 2015). In addition, it will help educate the newly insured about the insurance and benefits they can now access as a result of enrolling during the initial Health Insurance Marketplace open enrollment period. The overarching goals of this supplemental funding are to: (1) increase the number of uninsured educated about their coverage options, (2) increase the number of uninsured enrolled into the Health Insurance Marketplaces or other available sources of insurance, such as Medicaid and the Children's Health Insurance Program, and (3) increase the number of newly insured individuals educated about the benefits and primary care and preventative services to which they now have access.

SUPPLEMENTARY INFORMATION:

Intended Recipient of the Award: Current Delta States Grantees
[Quantity: 12]
Grant No. | Grantee | City | State | Maximum funding
D60RH25764 | Tombigbee Healthcare Authority | Demopolis | AL | $25,000
D60RH25754 | Arcare | Augusta | AR | 25,000
D60RH25757 | Greater Delta Alliance for Health | Lake Village | AR | 25,000
D60RH25763 | Southern Illinois University | Carbondale | IL | 25,000
D60RH25765 | Baptist Health Madisonville, INC., | Madisonville | KY | 25,000
D60RH25758 | The Health Enrichment Network | Oakdale | LA | 25,000
D60RH25762 | Parish of Richland | Delhi | LA | 25,000
D60RH25758 | Big Springs Medical Assoc | Ellington | MO | 25,000
D60RH25760 | County of Mississippi | Charleston | MO | 25,000
D60RH25756 | Delta State University | Cleveland | MS | 25,000
D60RH25759 | Jefferson Comprehensive Health Center | Fayette | MS | 25,000
D60RH25761 | Paris-Henry County Health Care Foundation | Paris | TN | 25,000

Amount of Non-Competitive Awards: $25,000/award

Period of Supplemental Funding: September 15, 2014—July 31, 2015

CFDA Number: 93.912

Authority: Public Health Service Act, Section 330A (e) (42 U.S.C. 254(c)), as amended.

Justification: A greater proportion of rural residents lack health insurance in comparison to urban residents. With millions still uninsured, this supplemental funding will allow current Delta States grantees an opportunity to specifically employ and tailor ACA outreach and enrollment efforts to the uninsured population in rural Delta communities for the upcoming Health Insurance Marketplace open enrollment period (November 15, 2014—February 15, 2015). Additionally, Delta States grantees will be able help educate the newly insured rural Americans about the health insurance coverage and care to which they now have access.

FOR FURTHER INFORMATION CONTACT: CAPT Valerie A. Darden, MHS, Community Based Division, Office of Rural Health Policy, Health Resources and Services Administration, 5600 Fishers Lane, Room 17W29C, Rockville, MD 20857, phone: (301) 443-0837, or email: vdarden@hrsa.gov.

Dated: August 25, 2014.
Mary K. Wakefield,
Administrator.

[FR Doc. 2014-20845 Filed 9-2-14; 8:45 am]

BILLING CODE 4165-15-P